DEPARTMENT OF STATE

[Delegation of Authority 285]

Delegation by the Deputy Secretary to the Director and the Deputy Director of the Office of Foreign Missions of Authority Regarding Certification Under the Internal Revenue Code

By virtue of the authority vested in the Secretary of State, including Section 1 of the State Department Basic Authorities Act, as amended (22 U.S.C. 2651a), and delegated to the Deputy Secretary of State pursuant to Delegation of Authority 245 of April 23, 2001, I hereby delegate to the Director and Deputy Director of the Office of Foreign Missions the certification function vested in the Secretary of State by 26 U.S.C. 893(b) (section 893(b) of the Internal Revenue Code regarding the “Compensation of employees of foreign governments or organizations”).

Any function covered by this delegation may also be exercised by the Secretary of State, the Deputy Secretary of State or the Under Secretary for Management.

Any act, executive order, regulation or procedure subject to, or affected by, this delegation shall be deemed to be such act, executive order, regulation, or procedures as amended from time to time.

This delegation of authority shall be published in the Federal Register.

Dated: October 31, 2005.
Robert B. Zoellick,
Deputy Secretary of State, Department of State.

[FR Doc. 05-22240 Filed 11-7-05; 8:45 am]

BILLING CODE 4710-10-P